UNITED STATES INSTITUTE OF PEACE

Sunshine Act Meeting

Date/Time: Wednesday—June 15, 2005 (6 p.m.-9p.m.); Thursday—June 16, 2005 (8 a.m.-8 p.m.); Friday—June 17, 2005 (8 a.m.-12 p.m.).

Location: Airlie Conference Center, 6809 Airlie Road, Warrenton, VA 20187, USA.

Status: Open Session—Portions may be closed pursuant to Subsection (c) of Section 552(b) of Title 5, United States Code, as provided in subsection 1706(h)(3) of the United States Institute of Peace Act, Public Law 98-525.

Agenda: June 2005 Board Meeting; Approval of Minutes of the One Hundred and Eighteenth Meeting, (March 17, 2005) of the Board of Directors; Chairman's Report; President's Report; Review, Discussion and Approval of Solicited Grant Topics for March 2006 Grants Cycle; Selection of National Peace Essay Contest Winners; Program Reports; Discussion of Budget Guidelines for Fiscal Year 2007; Review of Select USIP Policies; Other General Issues.

Contact: Tessie Higgs, Executive Office, Telephone: (202) 429-3836.

Dated: May 26, 2005.
Michael Graham,
Executive Vice President, United States Institute of Peace.

[FR Doc. 05-11035 Filed 5-31-05; 10:36 am]

BILLING CODE 6820-AR-M